DEPARTMENT OF DEFENSE

Department of the Army

Availability for Non-Exclusive, Exclusive, or Partially Exclusive Licensing of Invention Concerning System and Method for Providing Access to Forms and Maintaining the Data Used To Complete the Forms

AGENCY: Department of the Army, DoD.

ACTION: Notice.

SUMMARY: In accordance with 37 CFR 404.6 and 404.7, announcement is made of the availability for licensing of PCT Application No. PCT/US01/15666 entitled “System and Method for Providing Access to Forms and Maintaining the Data Used to Complete the Forms” filed May 16, 2001. The United States Government, as represented by the Secretary of the Army has rights in this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: An apparatus and method for providing a forms system that preferably allows easy access to an infinite number of forms, an user to electronically sign a form, authentication of the data has not changed after the form has been electronically signed, data conversion, and external data importation into a data file. A further embodiment of the invention includes a method to incorporate signature capabilities into a form. Another aspect of the invention is consistent handling of data entered into forms by users.

Luz D. Ortiz,
Army Federal Register Liaison Officer.

[FR Doc. 02-12183 Filed 5-15-02; 8:45 am]

BILLING CODE 3710-08-M